SMALL BUSINESS ADMINISTRATION

[Disaster Declaration #21202 and #21203; NEW MEXICO Disaster Number NM-20017]

Presidential Declaration Amendment of a Major Disaster for the State of New Mexico

AGENCY: U.S. Small Business Administration.

ACTION: Amendment 3.

SUMMARY: This is an amendment of the Presidential declaration of a major disaster for the State of New Mexico (FEMA-4886-DR), dated July 22, 2025.

Incident: Severe Storms, Flooding and Landslides.

DATES: Issued on September 18, 2025.

Incident Period: June 23, 2025 through August 5, 2025.

Physical Loan Application Deadline Date: October 15, 2025.

Economic Injury (EIDL) Loan Application Deadline Date: April 22, 2026.

ADDRESSES: Visit the MySBA Loan Portal at https://lending.sba.gov to apply for a disaster assistance loan.

FOR FURTHER INFORMATION CONTACT: Jennifer Talarico, Office of Disaster Recovery & Resilience, U.S. Small Business Administration, 409 3rd Street SW, Suite 6050, Washington, DC 20416, (202) 205-6734.

SUPPLEMENTARY INFORMATION: The notice of the President's major disaster declaration for the State of New Mexico, dated July 22, 2025, is hereby amended to extend the deadline for filing applications for physical damages as a result of this disaster to October 15, 2025.

All other information in the original declaration remains unchanged.

(Catalog of Federal Domestic Assistance Number 59008)

(Authority: 13 CFR 1234.3(b).)

James Stallings,
Associate Administrator, Office of Disaster Recovery & Resilience.

[FR Doc. 2025-18307 Filed 9-19-25; 8:45 am]

BILLING CODE 8026-09-P